DEPARTMENT OF TRANSPORTATION

Federal Aviation Administration

Eighty-Fourth Meeting: RTCA Special Committee 159: Global Positioning System (GPS)

AGENCY: Federal Aviation Administration (FAA), DOT.

ACTION: Notice of RTCA Special Committee 159 meeting: Global Positioning System (GPS).

SUMMARY: The FAA is issuing this notice to advise the public of a meeting of RTCA Special Committee 159: Global Positioning System (GPS).

DATES: The meeting will be held February 7-11, 2011, from 9 a.m. to 4:30 p.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 159: Global Positioning System (GPS) meeting. The agenda will include:

SPECIFIC WORKING GROUP SESSIONS

Monday, February 7

• All Day, Working Group 2C, GPS/Inertial, MacIntosh-NBAA Room and Hilton-ATA Room

Tuesday, February 8

• All Day, Working Group 2, GPS/WAAS, Colson Board Room

Wednesday, February 9

• All Day, Working Group 2, GPS/WAAS, Colson Board Room

• All Day, Working Group 4, Precision Landing Guidance (GPS/LAAS), MacIntosh-NBAA Room and Hilton-ATA Room

Thursday, February 10

• All Day, Working Group 4, Precision Landing Guidance (GPS/LAAS), MacIntosh-NBAA Room and Hilton-ATA Room.

• Afternoon, Working Group 7, Antenna (GPS Antenna), Colson Board Room

Friday, February 11, 9 a.m.

Plenary Session—See Agenda Below

Agenda—Plenary Session—Agenda

Colson Board Room

• Chairman's Introductory Remarks

• Approval of Summary of the 83rd Meeting held October 29, 2010, RTCA Paper No. 004-11/SC159-989

• Review Working Group (WG) Progress and Identify Issues for Resolution

• GPS/3rd Civil Frequency (WG-1)

• GPS/WAAS (WG-2)

• GPS/GLONASS (WG-2A)

• GPS/Inertial (WG-2C)

• GPS/Precision Landing Guidance (WG-4)

• GPS/Airport Surface Surveillance (WG-5)

• GPS/Interference (WG-6)

• GPS/Antennas (WG-7)

• Review of EUROCAE Activities

• Surveillance Availability Prediction Tool Requirements and Verification/Validation—Discussion

• Assignment/Review of Future Work

• Other Business

• Date and Place of Next Meeting

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 11, 2011.
Robert L. Bostiga,
RTCA Advisory Committee.

[FR Doc. 2011-818 Filed 1-13-11; 8:45 am]

BILLING CODE 4910-13-P